ENVIRONMENTAL PROTECTION AGENCY

[FRL-7848-5]

Whitehouse Oil Pits Superfund Site; Notice of Proposed Settlement

AGENCY: Environmental Protection Agency.

ACTION: Notice of proposed settlement.

SUMMARY: In accordance with section 122(i) of the Comprehensive Environmental Response, Compensation, and Liability Act, as amended (“CERCLA”), 42 U.S.C. 9622(i), the Environmental Protection Agency proposes to enter into a settlement with Mrs. Eloise Gleaton concerning the Whitehouse Oil Pits Superfund Site near Jacksonville, Duval County, Florida. To resolve her potential liability at the Site, the Agreement requires Mrs. Gleaton to deed certain property and grant a temporary easement over other property to the City of Jacksonville that is needed for remediation of the Site. The Agreement also requires Mrs. Gleaton to place well drilling restrictions on certain property so as not to interfere with the integrity of the remedy being implemented at the Site. EPA will consider comments on the settlement until January 18, 2005. The Agency will consider all comments received and may modify or withdraw its consent to the settlement if comments received disclose facts or considerations which indicate that the settlement is inappropriate, improper, or inadequate. Copies of the proposed settlement are available from:

Ms. Paula V. Batchelor, U.S. Environmental Protection Agency, Region 4, Waste Management Division, 61 Forsyth Street, SW., Atlanta, Georgia 30303, (404) 562-8887, Batchelor.Paula@EPA.GOV.

Written comments may be submitted to Ms. Batchelor at the above address within 30 days of the date of publication.

Dated: December 1, 2004.
Rosalind H. Brown,
Chief, Superfund Enforcement & Information Management Branch, Waste Management Division.

[FR Doc. 04-27552 Filed 12-15-04; 8:45 am]

BILLING CODE 6560-50-M